SMALL BUSINESS ADMINISTRATION

National Small Business Development Center Advisory Board; Public Meeting

The U.S. Small Business Administration, National Small Business Development Centers Advisory Board will be conducting a conference call to discuss such matters that may be presented by members, and the staff of the U.S. Small Business Administration. The conference call will be held on Tuesday, November 21, 2006 at 1 p.m. eastern standard time.

The purpose of the meeting is to discuss internal board matters such as the status of proposed new Board members, administrative issues, the marketing of the SBDC Program, and to follow up with the “Dialogue with the State Directors” meeting held at the ASBDC Conference in September.

Anyone wishing to make an oral presentation to the Board must contact Erika Fischer, Senior Program Analyst, U.S. Small Business Administration, Office of Small Business Development Centers, 409 3rd Street, SW., Washington, DC 20416, telephone (202) 205-7045 or fax (202) 481-0681.

Thomas M. Dryer,
Acting Committee Management Officer.

[FR Doc. E6-19062 Filed 11-9-06; 8:45 am]

BILLING CODE 8025-01-P